DEPARTMENT OF STATE

[Public Notice: 9369]

30-Day Notice of Proposed Information Collection: Iraqi Citizens and Nationals Employed by Federal Contractors and Grantees

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to January 6, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Sophie Yan Gao, PRM/Admissions, 2025 E Street NW., SA-9, 8th Floor, Washington, DC 20522-0908, who may be reached on (202) 453-9255 or at GaoY1@state.gov.

SUPPLEMENTARY INFORMATION: • Title of Information Collection: Iraqi Citizens and Nationals Employed by Federal Contractors, Grantees and Cooperative Agreement Partners.

• OMB Control Number: 1405-0184.

• Type of Request: Revision of a Currently Approved Collection.

• Originating Office: Bureau of Population, Refugees, and Migration, Office of Admissions, PRM/A.

• Form Number: DS-7655.

• Respondents: Refugee applicants for the U.S. Refugee Admissions Program.

• Estimated Number of Respondents: 50 Department of State contractors, grantees, and cooperative agreement partners.

• Estimated Number of Responses: 200.

• Average Time per Response: 30 minutes.

• Total Estimated Burden Time: 100 hours.

• Frequency: On occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The information requested will be used to verify the employment of Iraqi citizens and nationals for the processing and adjudication of other refugee, asylum, special immigrant visa, and other immigration claims and applications.

Methodology:

The method for the collection of information will be via electronic submission. The format for compiling the information will be the Department of State's eForms application which is currently used by over 36,000 Department users worldwide. Contracting Officers and Grants Officers will distribute by email to the contractors, grantees and cooperative agreement partners under their authority the DS-7655 form file and Cerenade e-Form filler installation instructions. Respondents, using the Cerenade filler, will complete the form and email the form file to their Contracting Officers or Grants Officer.

Dated: November 27, 2015.
Larry Bartlett,
Director, Office of Admissions, Bureau of Population, Refugees, and Migration, Department of State.

[FR Doc. 2015-30775 Filed 12-4-15; 8:45 am]

BILLING CODE 4710-33-P